DEPARTMENT OF THE INTERIOR

Bureau of Land Management

[MT-070-05-1220-AL]

Notice to Rescind Seasonal Area Closure of Public Lands Along Hauser Lake, MT

AGENCY: Bureau of Land Management, Interior.

ACTION: Notice.

SUMMARY: The purpose of this notice is to rescind the annual October 15 to December 31 closure of all public lands lying in the 2.5 mile stretch from Canyon Ferry Dam downstream to Brown's Gulch Road and between the east shore of Hauser Lake and Johnny's Gulch Road. The public lands affected by this notice are all lands administered by the Bureau of Land Management in Sections 5 and 6, T. 10 N., R.1 W., and Section 32, T. 11N., R. 1 W. Principle Meridian, Montana. The closure area that we are rescinding totals 769 acres.

DATES: This Notice will take affect upon publication in the Federal Register.

ADDRESSES: Copies of this rescindment and a map are available from the Butte Field Office, 106 N. Parkmont, Butte, Montana 59701.

FOR FURTHER INFORMATION CONTACT: Steve Hartmann, Assistant Field Manager, Butte Field Office at (406) 533-7600.

SUPPLEMENTARY INFORMATION: Kokanee Salmon were introduced into Hauser Reservoir in the 1970's to provide a fishery for local anglers. The salmon population thrived and bald eagles migrating from Canada to their wintering grounds in Utah, Colorado, and Wyoming began to congregate around Hauser Reservoir to feed on spawning salmon. When the numbers of eagles began to steadily increase, the Bureau of Reclamation, Bureau of Land Management, Forest Service, and Montana Fish, Wildlife and Parks closed the area to public access to protect bald eagles from human disturbance.

From 1991 to 1996, 100-300 migrating eagles were identified congregating at Hauser Reservoir. By 1997, however, the number of bald eagles had dropped to fewer than 65, the lowest number of bald eagles counted over the seven year period. Declining angler success, reduced captures in Montana Fish, Wildlife and Parks gill nets, and extremely low carcass counts from 1995-1997 showed a decline in the Kokanee salmon population. Migrating bald eagles responded to the reduction in food supply. By 2000, fewer than 20 bald eagles were identified at Hauser Reservoir and the closure is no longer necessary.

Dated: December 1, 2004.
Richard M. Hotaling,
Field Manager.

[FR Doc. 05-1603 Filed 1-27-05; 8:45 am]

BILLING CODE 4310-$$-P